DEPARTMENT OF THE TREASURY

Bureau of the Fiscal Service

Senior Executive Service; Fiscal Service Performance Review Board

AGENCY: Bureau of the Fiscal Service, Treasury.

ACTION: Notice.

SUMMARY: This notice announces the appointment of the members of the Fiscal Service Performance Review Board (PRB) for the Bureau of the Fiscal Service (Fiscal Service). The PRB reviews the performance appraisals of career senior executives who are below the level of Assistant Commissioner/Executive Director and who are not assigned to the Office of the Commissioner in the Fiscal Service. The PRB makes recommendations regarding proposed performance appraisals, ratings, bonuses, pay adjustments, and other appropriate personnel actions.

DATES: Effective on October 23, 2013.

FOR FURTHER INFORMATION CONTACT: Angela Jones, Deputy Chief Human Capital Officer, Bureau of the Fiscal Service, (304) 480-8949.

SUPPLEMENTARY INFORMATION: This Notice announces the appointment of the following primary and alternate members to the Bureau of the Fiscal Service (Fiscal Service) PRB:

Primary Members

Anita D. Shandor, Deputy Commissioner, Finance and Administration, Fiscal Service

John Hill, Assistant Commissioner, Payment Management, Fiscal Service

Douglas Anderson, Assistant Commissioner, Office of Administrative Services, Fiscal Service

Alternate Member

Patricia M. Greiner, Chief Financial Officer/Assistant Commissioner, Management, Fiscal Service

Authority: 5 U.S.C. 4314(c)(4).

David A. Lebryk,
Commissioner.

[FR Doc. 2013-24616 Filed 10-22-13; 8:45 am]

BILLING CODE M